FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than November 18, 2020.

A. Federal Reserve Bank of Atlanta (Kathryn Haney, Assistant Vice President) 1000 Peachtree Street NE, Atlanta, Georgia 30309. Comments can also be sent electronically to Applications.Comments@atl.frb.org:

1. Bartow Morgan, Jr., Richard Brand Morgan, Patricia Morgan Thomas, James Bradford Smith, all of Atlanta, Georgia, Patricia MacLaurin Morgan Farrior, Tampa, Florida, and Paul Mangum Morgan, New York, New York; as a group acting in concert to acquire voting shares Georgia Banking Company, Inc., and thereby indirectly acquire voting shares of Georgia Banking Company, both of Sandy Springs, Georgia.

B. Federal Reserve Bank of Chicago (Colette A. Fried, Assistant Vice President) 230 South LaSalle Street, Chicago, Illinois 60690-1414:

1. Marilyn L. Cravens Stock Trust, Sanborn, Iowa, Marilyn Lee Cravens, as trustee, Spirit Lake, Iowa; to acquire voting shares of Milford Bancorporation, and thereby indirectly acquire voting shares of United Community Bank, both of Milford, Iowa.

C. Federal Reserve Bank of Minneapolis (Chris P. Wangen, Assistant Vice President) 90 Hennepin Avenue, Minneapolis, Minnesota 55480-0291:

1. The 2020 Jeffory A. Erickson Irrevocable Trust No. 1, the 2020 Jeffory A. Erickson Irrevocable Trust No. 2, the 2020 Jeffory A. Erickson Irrevocable Trust No. 3, and the 2020 Jeffory A. Erickson Irrevocable Trust No. 4, (collectively, the “Erickson Trusts”), Scott A. Erickson, as trust advisor and co-trustee with Matthew P. Bock, as co-trustee, to one or more trusts in the Erickson Trusts, all of Sioux Falls, South Dakota; to join Jeffory A. Erickson in the Erickson family shareholder group, a group acting in concert to acquire voting shares of Leackco Bank Holding Company, Wolsey, South Dakota, and thereby indirectly acquire voting shares of American Bank & Trust, Wessington Springs, South Dakota.

In addition, Scott A. Erickson, Matthew P. Bock, and Jamie L. Brown, also of Sioux Falls, South Dakota, and all individually, to join the Erickson family shareholder group to retain voting shares of Leackco Bank Holding Company, and thereby indirectly retain voting shares of American Bank & Trust.

Board of Governors of the Federal Reserve System, October 29, 2020.
Michele Taylor Fennell,
Deputy Associate Secretary of the Board.

[FR Doc. 2020-24334 Filed 11-2-20; 8:45 am]

BILLING CODE P